DEPARTMENT OF ENERGY

10 CFR Parts 429 and 431

[EERE-2017-BT-STD-0048]

RIN 1904-AF27

Energy Conservation Program: Energy Conservation Standards for Dedicated Purpose Pool Pump Motors

Correction

In rule document 2023-20343, appearing on pages 66966 through 67041 in the issue of Thursday, September 28, 2023, make the following correction:

On page 66967, in Table I.1, in the fifth column, on the third line, “September 28, 2025” should read “September 28, 2027”.

[FR Doc. C1-2023-20343 Filed 10-11-23; 8:45 am]

BILLING CODE 0099-10-D